DEPARTMENT OF HEALTH AND HUMAN SERVICES

Centers for Disease Control and Prevention

[60Day-10-10AP]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Survey of Healthcare Workers' Health and Safety Practices—New—National Institute for Occupational Safety and Health (NIOSH), Centers for Disease Control and Prevention (CDC).

Background and Brief Description

The mission of the National Institute for Occupational Safety and Health (NIOSH) is to promote safety and health at work for all people through research and prevention. Under Public Law 91-596, Sections 20 and 22 (Section 20-22, Occupational Safety and Health Act of 1970), NIOSH has the responsibility to conduct research to advance the health and safety of workers. In this capacity, NIOSH will conduct a survey of healthcare workers.

Healthcare workers represent over 8% of the U.S. workforce with many occupations projected to substantially grow in the next ten years. Healthcare workers experience higher rates of illness and injury as compared to workers in other industries and are at increased risk for many of the types of adverse health effects potentially caused by exposure to hazardous chemical agents. The proposed hazard surveillance survey will provide important information on work practices associated with the use of important classes of hazardous chemical agents including aerosolized medications, antineoplastic agents, chemical sterilants, high level disinfectants, surgical smoke, and anesthetic gases. This survey is the first of its kind by the Federal government or others. The data collected will describe the prevalence and distribution of health and safety practices and the use of exposure controls and barriers to their use for each of these chemical agents, by occupation and by type and by size of work setting. The study population for this survey includes members of professional organizations who represent healthcare workers in many occupations which use or are exposed to these chemical agents. NIOSH will use the data to guide interventions and future research. The participating professional organizations indicated that the data will be useful for benchmarking, identifying areas for expanding guidelines and for health and safety promotion.

The proposed survey is modular in design and will be available only on-line. The survey includes separate chemical hazard modules addressing the previously mentioned hazardous chemical agents, and a core module which gathers information on a broad range of health and safety issues affecting healthcare workers, in addition to demographic information. Members of the participating professional organizations will be recruited by email which will be sent by each professional organization to their members. All respondents will complete a brief screening questionnaire. If one or more of the chemical agents under study was used in the past week, the respondent would complete the appropriate hazard module (e.g., oncology nurse would complete hazard module on administration of antineoplastic agents) and the core module. A second hazard module may also be completed depending on whether additional chemical agents were used in the past week.

Depending on the size of the participating professional organization, all members or a random sample of members will be sent an e-mail by their organization which will contain a hyperlink to the survey. The survey will reside on a secure Web site maintained by our survey contractor. The major objectives of the survey will be to: (1) Describe the prevalence and distribution of health and safety practices by chemical hazard, occupation and type and size of work setting; (2) describe the frequency and duration of use of hazardous chemicals by occupation and type and size of work setting; and (3) describe the use of exposure controls including the use of personal protective equipment as well as the barriers to their use, by occupation and type and size of work setting. The survey will provide important hazard and exposure surveillance data that is currently unavailable for healthcare workers. NIOSH will use the results to identify gaps relative to the use of best practices, to guide interventions and to stimulate future research. The participating professional organizations plan to use the data to benchmark current practices, to identify areas for expanding guidelines and to promote occupational health and safety.

The target population of healthcare workers for this survey will be limited to members of the participating professional organizations who have used or been exposed to one or more of the hazardous chemical agents within the past week. Respondents will not be asked to report names or any other identifying information.

The project supports the NIOSH surveillance strategic goal to advance the usefulness of surveillance information for the prevention of occupational illnesses, injuries and hazards, and actively promoting the dissemination and use of NIOSH surveillance data and information. This survey will allow NIOSH to characterize health and safety practices of healthcare workers and their work environment; describe the frequency and duration of use of the targeted hazardous chemical agents by occupation and by type and size of work setting; and describe the use of exposure controls including the use of personal protective equipment as well as the barriers to their use, by occupation and type and size of work setting.

Once the study is completed, results will be made available via various means including the NIOSH internet site. NIOSH expects to complete data collection no later than spring of 2011. There is no cost to respondents other than their time.

Estimated Annualized Burden Hours
Type of respondent | Form name | Number of respondents | Number of responses per respondent | Avg. burden per response (in hours) | Total burden (in hours)
Healthcare Workers | Screening Module | 25,650 | 1 | 1/60 | 428
| Primary Hazard Module | 20,520 | 1 | 10/60 | 3,420
| Core Module | 20,520 | 1 | 17/60 | 5,814
| Secondary Hazard Module | 1,952 | 1 | 10/60 | 325
Total |  |  |  |  | 9,987

Dated: December 1, 2009.
Maryam I. Daneshvar,
Acting Reports Clearance Officer, Centers for Disease Control and Prevention.

[FR Doc. E9-29109 Filed 12-4-09; 8:45 am]

BILLING CODE 4163-18-P